DEPARTMENT OF AGRICULTURE

Natural Resources Conservation Service

Notice of Meeting of the Agricultural Air Quality Task Force

AGENCY: Natural Resources Conservation Service, USDA.

ACTION: Notice of Meeting.

SUMMARY: The Department of Agriculture (USDA), Agricultural Air Quality Task Force (AAQTF) will meet to continue discussions on critical air quality issues related to agriculture. Special emphasis will be placed on obtaining a greater understanding about the relationship between agricultural production and air quality. The meeting is open to the public, and a draft agenda is included in this notice.

DATES: The AAQTF meeting will convene on Tuesday, February 7, 2012, from 8 a.m. to 5 p.m. and Wednesday, February 8, 2012, from 8 a.m. to 4 p.m. There will be a public comment period. Individuals making oral presentations should contact Elvis Graves and bring at least 30 copies of any material to be distributed. Written material to be considered by the AAQTF must be received by Elvis Graves (address given below) no later than January 27, 2012.

ADDRESSES: The meeting will be held at the Sheraton Phoenix Airport Hotel located at 1600 S. 52nd Street, Tempe, Arizona 85281; Telephone: (480) 829-9427.

FOR FURTHER INFORMATION CONTACT: Questions and comments should be directed to Elvis L. Graves, Designated Federal Official, Department of Agriculture Natural Resources Conservation Service, Post Office Box 2890, Washington, DC 20013; Telephone: (202) 720-1858; Fax: (202) 720-2646; Email: elvis.graves@wdc.usda.gov.

SUPPLEMENTARY INFORMATION: Notice of this meeting is given under the Federal Advisory Committee Act, 5 U.S.C. App. 2. Additional information concerning AAQTF, including any revised agendas for the February 7-8, 2012, meeting that occurs after this Federal Register Notice is published, may be found at http://www.airquality.nrcs.usda.gov/AAQTF/index.html.

Draft Agenda

Meeting of the AAQTF

February 7-8, 2012

A. Welcome to Phoenix, Arizona

• USDA, NRCS, and local officials

B. Review Minutes and Actions From Last Meeting

C. USDA Agency and Environmental Protection Agency Updates

D. Air Quality Issues/Concerns Discussions

• Exceptional Events Policy Implications in Desert Environment

• Maricopa County Ag Best Management Practices (BMP)

• Committee Updates

E. Next Meeting, time/place

• Public Input (time will be reserved at designated time(s) to receive public comment. Individual presentations will be limited to 5 minutes).

* Please note that the timing of events in the agenda is subject to change to accommodate changing schedules of expected speakers or unexpected events.

Procedural

The meeting is open to the public. At the discretion of the Chair, members of the public may give oral presentations during the meeting. Those persons wishing to make oral presentations should notify Elvis Graves at (202) 720-1858 no later than January 27, 2011. Those wishing to distribute written materials at the meeting (in conjunction with spoken comments) must bring at least 30 copies of the materials with them. If a person submitting material would like a copy distributed to each member of the committee in advance of the meeting, they should submit copies to Elvis Graves no later than January 27, 2011.

Information on Services for Individuals With Disabilities

For information on facilities or services for individuals with disabilities or to request special assistance at the meeting, please contact Elvis Graves. USDA prohibits discrimination in its programs and activities on the basis of race, color, national origin, gender, religion, age, sexual orientation, or disability. Additionally, discrimination on the basis of political beliefs and marital or family status is also prohibited by statutes enforced by USDA. (Not all prohibited bases apply to all programs.) Persons with disabilities who require alternate means for communication of program information (Braille, large print, audio tape, etc.) should contact the USDA's Target Center at (202) 720-2000 (voice and TDD).

Signed this 5th day of January, 2012, in Washington, DC.
Dave White,
Chief, Natural Resources Conservation Service.

[FR Doc. 2012-469 Filed 1-11-12; 8:45 am]

BILLING CODE 3410-16-P